FEDERAL MARITIME COMMISSION

Notice of Request for Additional Information

The Commission gives notice that it has formally requested that the parties to the below listed agreement provide additional information pursuant to 46 U.S.C. 40304(d). This action prevents the agreement from becoming effective as originally scheduled.

Agreement No.: 011584-007.

Title: NYK/WWL/NSCSA/Cooperative Working Agreement.

Parties: Nippon Yusen Kaisha; Wallenius Wilhelmsen Logistics AS; and the National Shipping Company of Saudi Arabia.

By Order of the Federal Maritime Commission.
Dated: July 28, 2009.
Karen V. Gregory,
Secretary.

[FR Doc. E9-18362 Filed 7-30-09; 8:45 am]

BILLING CODE 6730-01-P